DEPARTMENT OF HEALTH AND HUMAN SERVICES

Agency for Toxic Substances and Disease Registry

[ATSDR-277]

Notice of Development of Set 26 Toxicological Profiles

AGENCY: Agency for Toxic Substances and Disease Registry (ATSDR), Department of Health and Human Services (HHS).

ACTION: Notice.

SUMMARY: This notice announces the development of Set 26 Toxicological Profiles, which will consist of three updated profiles and two new profiles. Draft for Public Comment versions of these profiles will be available to the public on or about October 17, 2013. Electronic access to these documents will be available at the ATSDR Web site: http://www.atsdr.cdc.gov/toxprofiles/index.asp.

Set 26 Toxicological Profiles

The following toxicological profiles are now being developed:

Name | CAS
1. Trichloroethylene (UPDATE) | 79-01-6
2. Tetrachloroethylene (UPDATE) | 127-18-4
3. Hydrogen sulfide/Carbonyl sulfide (UPDATE) | 7783-06-4 463-58-1
4. Glutaraldehyde (NEW) | 111-30-8
5. Parathion (NEW) | 56-38-2

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the Priority List of Hazardous Substances (www.atsdr.cdc.gov/SPL). This list names 275 hazardous substances that pose the most significant potential threat to human health as determined by ATSDR and EPA. The availability of the revised list of the 275 priority substances was announced in the Federal Register on November 3, 2011 (76 FR 68193). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014); November 7, 2003 (68 FR 63098); December 7, 2005 (70FR 70284): and March 6, 2008 (73 FR 12178).

Notice of the availability of drafts of these five toxicological profiles for public review and comment will be published in the Federal Register on or about October 17, 2013, with notice of a 90-day public comment period for each profile, starting from the actual release date. Following the close of the comment period, chemical-specific comments will be addressed, and, where appropriate, changes will be incorporated into each profile.

FOR FURTHER INFORMATION CONTACT: Commander Jessilynn B. Taylor, Division of Toxicology and Human Health Sciences, Agency for Toxic Substances and Disease Registry, 1600 Clifton Road NE., Mail Stop F-57, Atlanta, GA 30333, telephone 770-488-3313.

Dated: January 11, 2013.
Ken Rose,
Director, Office of Policy Planning and Evaluation, National Center for Environmental Health.

[FR Doc. 2013-00991 Filed 1-17-13; 8:45 am]

BILLING CODE P